DEPARTMENT OF JUSTICE

Notice of Lodging of Proposed Consent Decree Under the Clean Air Act

On March 23, 2018, the Department of Justice lodged a proposed consent decree with the United States District Court for the District of North Dakota in the lawsuit entitled United States of America v. XTO Energy Inc., Civil Action No. 1:18-cv-00060.

The lawsuit seeks injunctive relief and civil penalties for violations of the Clean Air Act and the Federal Implementation Plan for Oil and Natural Gas Well Production Facilities; Fort Berthold Indian Reservation at well pads owned and operated by XTO Energy Inc. (“XTO”) on the Fort Berthold Indian Reservation in North Dakota. The violations relate to alleged failures to adequately design, operate, and maintain storage tank vapor control systems, resulting in emissions of volatile organic compounds (“VOC”) and other pollutants to the atmosphere.

The proposed consent decree covers all 20 of XTO's well pads on the Fort Berthold Indian Reservation. The proposed decree requires XTO to perform injunctive relief, including conducting engineering evaluations of the vapor control systems at each of the well pads to ensure that they are adequately sized and designed. XTO must also complete one environmental mitigation project, estimated to cost at least $425,000, and pay a $320,000 civil penalty. Entering into and fully complying with the proposed consent decree would release XTO from past civil liability at the tanks systems as associated vapor control systems for violations of the Fort Berthold FIP relating to VOC emissions from storage tanks.

The publication of this notice opens a period for public comment on the consent decree. Comments should be addressed to the Assistant Attorney General, Environment and Natural Resources Division, and should refer to United States of America v. XTO Energy Inc., D.J. Ref. No. 90-5-2-1-11656. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $17.00 (25 cents per page reproduction cost) payable to the United States Treasury.

Robert Brook,
Assistant Section Chief, Environmental Enforcement Section, Environment and Natural Resources Division.

[FR Doc. 2018-06366 Filed 3-28-18; 8:45 am]

BILLING CODE 4410-15-P